DEPARTMENT OF TRANSPORTATION

Federal Aviation Administration

14 CFR Part 71

[Docket No. FAA 2008-0211; Airspace Docket No. 08-AWP-3]

RIN 2120-AA66

Proposed Establishment of Class D Airspace; San Bernardino International Airport, San Bernardino, CA

AGENCY: Federal Aviation Administration (FAA), DOT.

ACTION: Notice of proposed rulemaking; extension of comment period.

SUMMARY: This notice announces an extension of the comment period on a Notice of Proposed Rulemaking (NPRM) which proposes to establish Class D airspace at San Bernardino International Airport, San Bernardino, CA. This action is being taken in response to interest by several pilot groups and local airspace users working groups in the Los Angeles basin.

DATES: Comments must be received on or before May 14, 2008.

ADDRESSES: You may send comments by any of the following methods: Federal eRulemaking Portal: Go to http://www.regulations.gov. Follow the instructions for submitting comments. Fax: 202-493-2251. Mail: U.S. Department of Transportation, Docket Operations, M-30, West Building Ground Floor, Room W12-140, 1200 New Jersey Avenue, SE., Washington, DC 20590. Hand Delivery: U.S. Department of Transportation, Docket Operations, M-30, West Building Ground Floor, Room W12-140, 1200 New Jersey Avenue, SE., Washington, DC 20590, between 9 a.m. and 5 p.m., Monday through Friday, except Federal holidays.

An informal docket may also be examined during normal business hours at the office of the Manager, System Support Group, Western Service Center, Federal Aviation Administration, 1601 Lind Avenue, SW., Renton, WA 98057.

FOR FURTHER INFORMATION CONTACT: Larry Tonish, System Support Group, Western Service Center, Federal Aviation Administration, 1601 Lind Avenue, SW., Renton, WA 98057; telephone (425) 203-4532.

SUPPLEMENTARY INFORMATION:

Background

Docket No. FAA 2008-0211; Airspace Docket No. 08-AWP-3, published on March 14, 2008 (71 FR 13811) proposed to establish Class D airspace at San Bernardino International Airport, San Bernardino, CA. This action will extend the comment period closing date on that airspace docket from April 14, 2008 to May 14, 2008 to allow for an additional 30-day comment period.

List of Subjects in 14 CFR Part 71

Airspace, Incorporation by reference, Navigation (air).

Extension of Comment Period

The comment period closing date on Docket No. FAA 2008-0211; Airspace Docket No. 08-AWP-3 is hereby extended to May 14, 2008.

Authority: 49 U.S.C. 106(g); 40103, 40113, 40120; E.O. 10854, 24 FR 9565, 3 CFR, 1959-1963 Comp., 389.

* * * * *

Issued in Seattle, Washington, on April 8, 2008.
Clark Desing,
Manager, System Support Group, Western Service Center.

[FR Doc. E8-8311 Filed 4-16-08; 8:45 am]

BILLING CODE 4910-13-P